ENVIRONMENTAL PROTECTION AGENCY

[EPA-HQ-OAR-2024-0266; FRL-12641-01-OMS]

Agency Information Collection Activities; Submission to the Office of Management and Budget for Review and Approval; Comment Request; NESHAP for Boat Manufacturing (Renewal)

AGENCY: Environmental Protection Agency (EPA).

ACTION: Notice.

SUMMARY: The Environmental Protection Agency (EPA) has submitted an information collection request (ICR), NESHAP for Boat Manufacturing (EPA ICR Number 1966.10, OMB Control Number 2060-0546) to the Office of Management and Budget (OMB) for review and approval in accordance with the Paperwork Reduction Act. This is a proposed extension of the ICR, which is currently approved through February 28, 2025. Public comments were previously requested via the Federal Register on August 6, 2024, during a 60-day comment period. This notice allows for an additional 30 days for public comments.

DATES: Comments may be submitted on or before March 31, 2025.

ADDRESSES: Submit your comments, referencing Docket ID Number EPA-HQ-OAR-2024-0266, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, Environmental Protection Agency, 1200 Pennsylvania Ave. NW, Washington, DC 20460; telephone number: (919) 541-0833; email address: ali.muntasir@epa.

SUPPLEMENTARY INFORMATION: This is a proposed extension of the ICR, which is currently approved through February 28. An agency may not conduct or sponsor and a person is not required to respond to a collection of information unless it displays a currently valid OMB control number.

Public comments were previously requested via the Federal Register on August 6, 2024, during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Boat Manufacturing were proposed on July 14, 2000, promulgated on August 22, 2001, amended on October 3, 2001 and March 20, 2020, and technical corrections published on November 1, 2021. These regulations apply to both existing and new boat manufacturing facilities that are a major source of hazardous air pollutant (HAP) emissions. This regulation covers resin and gel coat operations at fiberglass boat manufacturers, paint and coating operations at aluminum boat manufacturers, and carpet and fabric adhesive operations at all boat manufacturers. Air toxics are released during application and curing from the resins, gel coats, adhesives, coating, and solvents used in boat manufacturing. New facilities include those that commenced construction or reconstruction after May 17, 2019. This information is being collected to assure compliance with 40 CFR part 63, subpart VVVV.

In general, all NESHAP standards require initial notifications, performance tests, and periodic reports by the owners/operators of the affected facilities. Owners/operators are also required to maintain records of the occurrence and duration of any failures to meet applicable standards. These notifications, reports, and records are essential in determining compliance, and are required of all affected facilities subject to NESHAP.

Form Numbers: 5900-717.

Respondents/affected entities: Boat manufacturing facilities that are a major source of hazardous air pollutant (HAP) emissions.

Respondent's obligation to respond: Mandatory (40 CFR part 63, subpart VVVV).

Estimated number of respondents: 108 (total).

Frequency of response: Initially, annually, and semiannually.

Total estimated burden: 11,800 hours (per year). Burden is defined at 5 CFR 1320.03(b).

Total estimated cost: $1,620,000 (per year). There are no annualized capital or operation & maintenance costs.

Changes in the estimates: There is a decrease in the total estimated respondent burden compared with the ICR currently approved by OMB. This decrease is not due to any program changes. The change in the burden and cost estimates occurred because the standard has been in effect for more than three years and the requirements are different during initial compliance as compared to on-going compliance. The previous ICR reflected those burdens and costs associated with the initial activities for subject facilities. This included re-evaluating startup, shutdown, and malfunctions requirements; CDX registration, and familiarization with CEDRI for electronic reporting. This ICR, by and large, reflects the on-going burden and costs for existing facilities.

Courtney Kerwin,
Director, Information Engagement Division.

[FR Doc. 2025-03339 Filed 2-27-25; 8:45 am]

BILLING CODE 6560-50-P